DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Morton Buildings, Inc.

[Waiver Petition Docket Number FRA-2010-0015]

The Morton Buildings, Inc. (MBI) has petitioned FRA for a waiver of compliance from the requirements of 49 CFR 223.11 Safety Glazing Standards for Locomotives, 49 CFR 231.30 Locomotives used in Switching Service, 49 CFR Part 224 Reflectorization of Rail Freight Rolling Stock, and 49 CFR Part 229 Locomotive Safety Standards, for one Whiting Trackmobile. MBI is a manufacturer of steel clad buildings and the company is located in Morton, IL, with six other manufacturing locations. One of the six locations in Spencer, IA, is not served by rail and MBI provides for switching of approximately one hundred cars a year, utilizing a “Whiting Trackmobile” a self-propelled highway/rail vehicle.

MBI states in their request that they operate over 3.2 miles of former Soo Line track known as the North Railroad Spur Track, which they lease from the city of Spencer. MBI only provides service to itself, switching of cars is done in daylight hours, and they do not operate the trackmobile during inclement weather. The trackmobile is always operated in the lead position at speeds not to exceed 10 miles per hour. The approval of this request would allow for continued use of the Whiting Trackmobile for MBI operations.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0015) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on March 10, 2010.
Grady C. Cothen, Jr.,
Deputy Associate Administrator for Safety Standards and Program Development.

[FR Doc. 2010-5753 Filed 3-16-10; 8:45 am]

BILLING CODE 4910-06-P